SECURITIES AND EXCHANGE COMMISSION

[File No. 500-1]

Lumonall, Inc., Smart Comm International Ltd., Tissera, Inc., Ungava Mines, Inc., Unity Wireless Corporation, and Zupintra Corporation, Inc.; Order of Suspension of Trading

January 15, 2014.

It appears to the Securities and Exchange Commission that there is a lack of current and accurate information concerning the securities of Lumonall, Inc. because it has not filed any periodic reports since the period ended December 31, 2009.

It appears to the Securities and Exchange Commission that there is a lack of current and accurate information concerning the securities of Smart Comm International Ltd. because it has not filed any periodic reports since the period ended December 31, 2008.

It appears to the Securities and Exchange Commission that there is a lack of current and accurate information concerning the securities of Tissera, Inc. because it has not filed any periodic reports since the period ended October 31, 2008.

It appears to the Securities and Exchange Commission that there is a lack of current and accurate information concerning the securities of Ungava Mines, Inc. because it has not filed any periodic reports since the period ended November 30, 2007.

It appears to the Securities and Exchange Commission that there is a lack of current and accurate information concerning the securities of Unity Wireless Corporation because it has not filed any periodic reports since the period ended March 31, 2008.

It appears to the Securities and Exchange Commission that there is a lack of current and accurate information concerning the securities of Zupintra Corporation, Inc. because it has not filed any periodic reports since the period ended June 30, 2007.

The Commission is of the opinion that the public interest and the protection of investors require a suspension of trading in the securities of the above-listed companies. Therefore, it is ordered, pursuant to Section 12(k) of the Securities Exchange Act of 1934, that trading in the securities of the above-listed companies is suspended for the period from 9:30 a.m. EST on January 15, 2014, through 11:59 p.m. EST on January 29, 2014.

By the Commission.
Elizabeth M. Murphy,
Secretary.

[FR Doc. 2014-01032 Filed 1-15-14; 4:15 pm]

BILLING CODE 8011-01-P